DEPARTMENT OF ENERGY

Federal Energy Regulatory Commission

Combined Notice of Filings #1

Take notice that the Commission received the following exempt wholesale generator filings:

Docket Numbers: EG21-142-000.

Applicants: Bluestone Wind, LLC.

Description: Notice of Self-Certification of Exempt Wholesale Generator Status of Bluestone Wind, LLC.

Filed Date: 5/12/21.

Accession Number: 20210512-5222.

Comments Due: 5 p.m. ET 6/2/21.

Docket Numbers: EG21-143-000.

Applicants: Ball Hill Wind Energy, LLC.

Description: Notice of Self-Certification of Exempt Wholesale Generator Status of Ball Hill Wind Energy, LLC.

Filed Date: 5/12/21.

Accession Number: 20210512-5223.

Comments Due: 5 p.m. ET 6/2/21.

Docket Numbers: EG21-144-000.

Applicants: White Mesa Wind, LLC.

Description: Notice of Self-Certification of Exempt Wholesale Generator Status of White Mesa Wind, LLC.

Filed Date: 5/10/21.

Accession Number: 20210510-5231.

Comments Due: 5 p.m. ET 6/1/21.

Take notice that the Commission received the following electric rate filings:

Docket Numbers: ER10-2641-038; ER10-1852-051.

Applicants: Florida Power & Light Company, Oleander Power Project, Limited Partnership.

Description: Notice of Change in Status of Florida Power & Light Company, et al.

Filed Date: 5/3/21.

Accession Number: 20210503-5115.

Comments Due: 5 p.m. ET 5/24/21.

Docket Numbers: ER19-2858-005.

Applicants: East Coast Power Linden Holding, L.L.C.

Description: Compliance filing: Informational Filing Under PJM Tariff Schedule 2 and Request for Partial Waiver to be effective N/A.

Filed Date: 1/29/21.

Accession Number: 20210129-5271.

Comments Due: 5 p.m. ET 5/24/21.

Docket Numbers: ER21-894-001.

Applicants: Louisville Gas and Electric Company.

Description: Compliance filing: Compliance Filing Transition Mechanism Agreement KMPA to be effective 3/17/2021.

Filed Date: 5/13/21.

Accession Number: 20210513-5021.

Comments Due: 5 p.m. ET 6/3/21.

Docket Numbers: ER21-895-001.

Applicants: Louisville Gas and Electric Company.

Description: Compliance filing: Compliance Filing Transition Mechanism Agreement KYMEA to be effective 3/17/2021.

Filed Date: 5/13/21.

Accession Number: 20210513-5022.

Comments Due: 5 p.m. ET 6/3/21.

Docket Numbers: ER21-896-001.

Applicants: Louisville Gas and Electric Company.

Description: Compliance filing: Compliance Filing Transition Mechanism Agreement OMU to be effective 3/17/2021.

Filed Date: 5/13/21.

Accession Number: 20210513-5023.

Comments Due: 5 p.m. ET 6/3/21.

Docket Numbers: ER21-1176-000; ER21-1177-000.

Applicants: Delta's Edge Solar, LLC, Crosset Solar Energy, LLC.

Description: Response to April 19, 2021 Deficiency Letter of Delta's Edge Solar, LLC et al.

Filed Date: 5/12/21.

Accession Number: 20210512-5210.

Comments Due: 5 p.m. ET 6/2/21.

Docket Numbers: ER21-1879-001.

Applicants: Farmington Solar, LLC.

Description: Tariff Amendment: Farmington Solar, LLC Amendment to the Application for MBR Authority to be effective 7/11/2021.

Filed Date: 5/13/21.

Accession Number: 20210513-5131.

Comments Due: 5 p.m. ET 6/3/21.

Docket Numbers: ER21-1881-001.

Applicants: Grand Tower Energy Center, LLC.

Description: Tariff Amendment: Notice of Cancellation of Reactive Tariff and Request for Waiver to be effective 7/1/2021.

Filed Date: 5/11/21.

Accession Number: 20210511-5121.

Comments Due: 5 p.m. ET 6/1/21.

Docket Numbers: ER21-1898-000.

Applicants: Commonwealth Edison Company, PJM Interconnection, L.L.C.

Description: § 205(d) Rate Filing: ComEd submits Interconnection Agreement, SA No. 5955 with NIPSCO to be effective 4/2/2021.

Filed Date: 5/12/21.

Accession Number: 20210512-5206.

Comments Due: 5 p.m. ET 6/2/21.

Docket Numbers: ER21-1899-000.

Applicants: Tri-State Generation and Transmission Association, Inc.

Description: § 205(d) Rate Filing: Amendment to Service Agreement No. 804 to be effective 5/11/2021.

Filed Date: 5/13/21.

Accession Number: 20210513-5071.

Comments Due: 5 p.m. ET 6/3/21.

Docket Numbers: ER21-1900-000.

Applicants: New York Independent System Operator, Inc., Niagara Mohawk Power Corporation.

Description: § 205(d) Rate Filing: Joint 205 TIPIA: NYISO, National Grid, NYPA for Segment A, SA 2611, CEII to be effective 4/29/2021.

Filed Date: 5/13/21.

Accession Number: 20210513-5073.

Comments Due: 5 p.m. ET 6/3/21.

Docket Numbers: ER21-1901-000.

Applicants: Southwestern Public Service Company.

Description: Request for Limited Waiver of Tariff Provision, et al. of Southwestern Public Service Company.

Filed Date: 5/13/21.

Accession Number: 20210513-5081.

Comments Due: 5 p.m. ET 5/20/21.

Docket Numbers: ER21-1902-000.

Applicants: Southern California Edison Company.

Description: Tariff Cancellation: Notice of Cancellation Letter Agreement IP Oberon, LLC SA No. 248 to be effective 5/14/2021.

Filed Date: 5/13/21.

Accession Number: 20210513-5082.

Comments Due: 5 p.m. ET 6/3/21.

Docket Numbers: ER21-1903-000.

Applicants: Midcontinent Independent System Operator, Inc.

Description: § 205(d) Rate Filing: 2021-05-13_Attachment FF removal of RPCE language to be effective 7/13/2021.

Filed Date: 5/13/21.

Accession Number: 20210513-5095.

Comments Due: 5 p.m. ET 6/3/21.

Docket Numbers: ER21-1904-000.

Applicants: Southwestern Electric Power Company.

Description: § 205(d) Rate Filing: SWEPCO-Bentonville (POD#6 Sunshine and Sub E) Delivery Point Agreements to be effective 5/5/2021.

Filed Date: 5/13/21.

Accession Number: 20210513-5127.

Comments Due: 5 p.m. ET 6/3/21.

Docket Numbers: ER21-1905-000.

Applicants: NextEra Energy Transmission MidAtlantic Indiana, Inc., PJM Interconnection, L.L.C.

Description: § 205(d) Rate Filing: NEET MidAtlantic IN submits Interconnection Agreement, SA No. 5801 with NIPSCO to be effective 10/29/2020.

Filed Date: 5/13/21.

Accession Number: 20210513-5146.

Comments Due: 5 p.m. ET 6/3/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2021.
Debbie-Anne A. Reese,
Deputy Secretary.

[FR Doc. 2021-10547 Filed 5-18-21; 8:45 am]

BILLING CODE 6717-01-P